DEPARTMENT OF HOMELAND SECURITY

Federal Emergency Management Agency

[Docket ID FEMA-2025-0002; Internal Agency Docket No. FEMA-B-2545]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before November 4, 2025.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2545, to David Bascom, Acting Director, Engineering and Modeling Division, Risk Analysis, Planning & Information Directorate, FEMA, 400 C Street SW, Washington, DC 20472, or (email) david.bascom@fema.dhs.gov.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Jeffrey Jackson,
Deputy Assistant Administrator, Federal Insurance Directorate, Resilience, Federal Emergency Management Agency, Department of Homeland Security.

Community | Community map repository address
Wyoming County, New York (All Jurisdictions)
Project: 21-02-0008S Preliminary Date: January 31, 2025
Town of Arcade | Town Hall, 7340 Route 98, Arcade, NY 14009.
Town of Attica | Town Hall, 9 Water Street, Attica, NY 14011.
Town of Bennington | Bennington Town Hall, 905 Old Alleghany Road, Attica, NY 14011.
Town of Castile | Town Hall, 53 North Main Street, Castile, NY 14427.
Town of Covington | Covington Town Hall, 584 Perry Road, Pavilion, NY 14525.
Town of Eagle | Eagle Clerks Office, 3378 School Street, Bliss, NY 14024.
Town of Gainesville | Town Hall, 2 Toolhouse Road, Gainesville, NY 14066.
Town of Genesee Falls | Genesee Falls Town Hall, 6673 Church Street, Portageville, NY 14536.
Town of Java | Java Town Hall, 4222 Route 98, North Java, NY 14113.
Town of Middlebury | Middlebury Highway Building, 51 Sherman Avenue, Wyoming, NY 14591.
Town of Orangeville | Orangeville Town Hall, 3529 Route 20A, Warsaw, NY 14569.
Town of Perry | Town Hall, 22 South Main Street, Perry, NY 14530.
Town of Pike | Town Office, 60 East Main Street, Pike, NY 14130.
Town of Sheldon | Sheldon Town Hall, 1380 Centerline Road, Strykersville, NY 14145.
Town of Warsaw | Wyoming County Zoning Office, 36 Center Street, Suite C, Warsaw, NY 14569.
Town of Wethersfield | Wethersfield Clerks Office, 4362 Route 78, Gainesville, NY 14066.
Village of Arcade | Village Hall, 17 Church Street, Arcade, NY 14009.
Village of Attica | Municipal Building, 9 Water Street, Attica, NY 14011.
Village of Castile | Village Hall, 53 North Main Street, Castile, NY 14427.
Village of Gainesville | Village Hall, 29 East Street, Gainesville, NY 14066.
Village of Perry | Village Hall, 46 North Main Street, Perry, NY 14530.
Village of Silver Springs | Village Hall, 43 North Main Street, Silver Springs, NY 14550.
Village of Warsaw | Village Hall, 15 South Main Street, Warsaw, NY 14569.
Village of Wyoming | Village Clerks Office, 90 Main Street, Wyoming, NY 14591.
St. Joseph County, Michigan (All Jurisdictions)
Project: 23-05-0014S Preliminary Date: May 10, 2024 and April 02, 2025
City of Sturgis | City Hall, 130 North Nottawa, Sturgis, MI 49091.
City of Three Rivers | City Hall, 333 West Michigan Avenue, Three Rivers, MI 49093.
Township of Mottville | Mottville Township Hall, 68596 Thomas Street, White Pigeon, MI 49099.
Township of Burr Oak | Township Hall, 208 Front Street, Burr Oak, MI 49030.
Township of Colon | Township Hall, 132 North Blackstone Avenue, Colon, MI 49040.
Township of Constantine | Township Hall, 165 Canaris Street, Constantine, MI 49042.
Township of Fabius | Fabius Township Hall, 13108 Broadway Road, Three Rivers, MI 49093.
Township of Fawn River | Fawn River Township Hall, 31194 Fawn River Road, Sturgis, MI 49091.
Township of Florence | Florence Township Hall, 64010 Burgener Road, Constantine, MI 49042.
Township of Flowerfield | Flowerfield Township Hall, 12020 M-216, Marcellus, MI 49067.
Township of Leonidas | City Clerk Office, 53312 Fulton Road, Leonidas, MI 49066.
Township of Lockport | Lockport Township Water Department, 58982 Holtom Road, Three Rivers, MI 49093.
Township of Mendon | Township Hall, 136 West Main Street, Mendon, MI 49072.
Township of Nottawa | Nottawa Township Hall, 112 South Clark Street, Centreville, MI 49032.
Township of Park | Park Township Hall, 53640 Parkville Road, Three Rivers, MI 49093.
Township of Sherman | Sherman Township Hall, 64962 Balk Road, Sturgis, MI 49091.
Township of Sturgis | Sturgis Township Offices, 26015 West US 12, Sturgis, MI 49091.
Township of White Pigeon | Township Office, 16975 US 12, White Pigeon, MI 49099.
Village of Centreville | Village Offices, 109 East Main Street, Centreville, MI 49032.
Village of Colon | Village of Colon Village Hall, 111 South Saint Joseph Street, Colon, MI 49040.
Village of Constantine | Village Offices, 115 White Pigeon Street, Constantine, MI 49042.
Village of Mendon | Village Office, 206 West Main Street, Mendon, MI 49072.
Village of White Pigeon | Police Department, 103 South Kalamazoo Street, White Pigeon, MI 49099.

[FR Doc. 2025-14881 Filed 8-5-25; 8:45 am]

BILLING CODE 9110-12-P